DEPARTMENT OF COMMERCE

National Oceanic and Atmospheric Administration

[RTID 0648-XA109]

Endangered Species; File No. 19641

AGENCY: National Marine Fisheries Service (NMFS), National Oceanic and Atmospheric Administration (NOAA), Commerce.

ACTION: Notice; receipt of application for a permit modification.

SUMMARY: Notice is hereby given that the Connecticut Department of Energy and Environmental Protection, P.O. Box 719, Old Lyme, Connecticut 06371 (Responsible Party: Tom Savoy), has requested a modification to scientific research Permit No. 19641-01.

DATES: Written, telefaxed, or email comments must be received on or before May 20, 2020.

ADDRESSES: The modification request and related documents are available for review by selecting “Records Open for Public Comment” from the Features box on the Applications and Permits for Protected Species (APPS) home page, https://apps.nmfs.noaa.gov, and then selecting File No. 19641-03 from the list of available applications. These documents are also available upon written request or by appointment in the Permits and Conservation Division, Office of Protected Resources, NMFS, 1315 East-West Highway, Room 13705, Silver Spring, MD 20910; phone: (301) 427-8401; fax: (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Malcolm Mohead or Erin Markin, (301) 427-8401.

SUPPLEMENTARY INFORMATION: The subject modification to Permit No. 19641-01, issued on March 12, 2019 (84 FR 15595), is requested under the authority of the Endangered Species Act of 1973, as amended (16 U.S.C. 1531 et seq.) and the regulations governing the taking, importing, and exporting of endangered and threatened species (50 CFR parts 222-226).

Permit No. 19641-01 authorizes the permit holder to conduct scientific research on Atlantic and shortnose sturgeon to determine their presence, status, health, habitat use, and movements in Connecticut waters. Researchers may use gill nets and trawls to capture Atlantic and shortnose sturgeon to then measure, weigh, passive integrated transponder (PIT) tag, tissue sample, and photograph prior to release. A subset of individuals may also be anesthetized, acoustically tagged, fin ray sampled, and gastric lavaged. Early life stages (ELS) of shortnose sturgeon may be lethally sampled to document the occurrence of spawning in Connecticut waters. During research activities, the unintentional mortality of up to one juvenile and adult/sub-adult life stage of each species may occur, annually. Due to an expanding population of shortnose and Atlantic sturgeon in the Connecticut River, the Permit Holder requests annual increases in the take numbers authorized (i.e., from 250 to 500) for both juvenile Atlantic sturgeon and adult/sub-adult shortnose sturgeon life stages. The Permit Holder also requests authorization for lethal collection of 300 Atlantic sturgeon ELS to document the occurrence of spawning events in Connecticut waters. The permit expires March 31, 2027.

Dated: April 14, 2020.
Julia Marie Harrison,
Chief, Permits and Conservation Division, Office of Protected Resources, National Marine Fisheries Service.

[FR Doc. 2020-08237 Filed 4-17-20; 8:45 am]

BILLING CODE 3510-22-P